DEPARTMENT OF LABOR

Employment and Training Administration

Disaster Unemployment Assistance: Extension of Period for Filing Claims and for the Submission of Documentation

The Employment and Training Administration (ETA) administers Federal law requirements pertaining to Disaster Unemployment Assistance (DUA). These requirements are found in Federal regulations at 20 CFR 625. Due to the devastation created by Hurricane Katrina, ETA, through its Regional Offices, has informed the states of Alabama, Louisiana, and Mississippi that two filing deadlines for DUA are being extended. The memoranda are being published in the Federal Register in order to inform the public.

Dated: October 17, 2005.
Emily Stover Derocco,
Assistant Secretary of Labor.

September 9, 2005

Memorandum For: Helen N. Parker, Regional Administrator, Atlanta. Joseph C. Juarez, Regional Administrator, Dallas.

From: Cheryl Atkinson, Administrator, Office of Workforce Security.

Subject: Extension of 30-day Filing Period for Disaster Unemployment Assistance (DUA) for Claims Related to Hurricane Katrina.

Due to the devastation caused by Hurricane Katrina, the filing period for DUA is extended through November 30, 2005. This extension is based on the fact that there is widespread dislocation of workers and damage to the affected areas' infrastructure inflicted by Hurricane Katrina, which will make it difficult for individuals to file within the 30-day filing period. Additional time will afford those individuals a sufficient opportunity to file a DUA claim. There is good cause under 20 CFR 625.8(a) to extend the filing period for DUA in this situation.

Please advise the States of Alabama, Louisiana, and Mississippi of this extension. You should also ensure that the agencies work with the Federal Emergency Management Agency (FEMA) to release appropriate announcements to the media. Please advise states to use the services of FEMA's Joint Field Offices to issue public service announcements and media releases.

September 16, 2005

Memorandum For: Helen N. Parker, Regional Administrator, Atlanta. Joseph C. Juarez, Regional Administrator, Dallas.

From: Emily Stover Derocco, Assistant Secretary of Labor.

Subject: Disaster Unemployment Assistance (DUA)—Extension of Period for Submitting Documentation.

Due to the devastation caused by Hurricane Katrina, the time required for submission of documentation under 20 CFR 625.6(e)(1) is extended. For purposes of Hurricane Katrina, this documentation must be submitted within 90 days calendar days after the filing of the initial application for DUA. This extension is based on the fact that there has been widespread evacuation of workers due to the hurricane. It is unlikely that evacuees who do not have documentation at the time of filing will be able to obtain documentation within the 21-day period specified by the regulation because they will not have access to the appropriate documentation and may have to rely on others to provide this documentation.

More specifically, 20 CFR 625.6(e)(1) provides that when an applicant's weekly DUA amount is based only “on the individual's statement,” the individual shall furnish documentation in support of this statement “within 21 calendar days of the filing of the initial application for DUA.” As discussed above, for purposes of Hurricane Katrina, this period is extended to within 90 calendar days of filing the initial application.

Please advise the States of Alabama, Louisiana, and Mississippi of this extension. These states should take appropriate action to notify both future applicants and applicants who were initially unable to supply documentation of this extension.

[FR Doc. E5-5857 Filed 10-21-05; 8:45 am]

BILLING CODE 4510-30-P